DEPARTMENT OF THE INTERIOR

Fish and Wildlife Service

[FWS-R1-R-2009-N241; 12521-1261-0000-N3]

Palmyra Atoll National Wildlife Refuge, U.S. Pacific Island Territory

AGENCY: Fish and Wildlife Service, Interior.

ACTION: Notice of intent to prepare an environmental impact statement and announcement of public scoping.

SUMMARY: We, the U.S. Fish and Wildlife Service (Service), intend to prepare an environmental impact statement to evaluate eradication of nonnative rats on Palmyra Atoll National Wildlife Refuge (Refuge). We provide this notice to advise the public and other agencies of our intent, and obtain public comments, suggestions, and information on the scope of issues to consider in the EIS.

DATES: To ensure consideration, we must receive your written comments by March 1, 2010.

ADDRESSES: Additional information about the Refuge is available on the Internet at: http://www.fws.gov/palmyraatoll/. Send your comments or requests for information by any of the following methods.

E-mail: palmyra@fws.gov.

Fax: Attn: Beth Flint, (808) 792-9586.

U.S. Mail: Beth Flint, Acting Project Leader, Pacific Reefs National Wildlife Refuge Complex, 300 Ala Moana Blvd. Suite 5-231, Honolulu, HI 96850.

FOR FURTHER INFORMATION CONTACT: Beth Flint, Pacific Reefs National Wildlife Refuge Complex, phone (808) 792-9553.

SUPPLEMENTARY INFORMATION:

Refuge Overview

The Refuge is located in the Northern Line Islands, approximately 1,000 miles south of Honolulu, HI, in the Central Pacific Ocean. The Refuge was established in 2001 to protect, restore, and enhance migratory birds, coral reefs, and threatened and endangered species in their natural setting. Palmyra Atoll consists of approximately 54 small, heavily vegetated islets surrounding 3 central lagoons. Habitats consist of 680 acres of land and 15,512 acres of lagoons and shallow reefs. The Refuge's boundary extends seaward 12 nautical miles, encompassing 515,232 acres. Palmyra's terrestrial habitats support one of the largest remaining tropical coastal strand forests in the U.S. Pacific Islands. A diverse land crab fauna including the coconut crab, ecologically intact predator-dominated fish assemblages, and large seabird populations are important resources of this Refuge. The Refuge is closed to commercial fishing.

The original configuration of the atoll was significantly modified by the U.S. Navy during World War II. A network of roadways connecting the major islets and the construction of a north-south causeway altered natural water circulation. Introduced rats are severely degrading the terrestrial ecosystem of this important atoll by limiting the reproduction, recruitment, and establishment of several native tree species. Furthermore, the coconut palm, an invasive tree, already dominates 45 percent of Palmyra's forests. The spread of coconut palm is likely aided by rat-related recruitment and limitation of other tree species. Left unchecked, the combined effects of rats and coconut palms could drastically alter forest structure. Introduced rats on islands are also known to prey heavily on seabirds, which is likely preventing six seabird species from successfully nesting on the atoll. The rats also prey on native land crabs and directly compete with them for limited food resources. All of these impacts in turn affect the relationship between land and marine resources, and compromise the Service's ability to achieve Refuge purposes.

We furnish this notice in accordance with the National Environmental Policy Act (NEPA) as amended, and its implementing regulations; the National Wildlife Refuge System Administration Act of 1966 as amended by the National Wildlife Refuge System Improvement Act of 1997 (16 U.S.C. 668dd-668ee) (Refuge Administration Act); and Service policies. The Refuge Administration Act requires all lands within the National Wildlife Refuge System to be managed in accordance with achieving the purposes for which a refuge was established. For the Palmyra Atoll Refuge, the eradication of introduced rats would aid in achieving the following Refuge purposes.

• Perpetuate a functioning atoll ecosystem with natural diversity and abundance of fauna and flora.

• Preserve, restore, and enhance all terrestrial species of animals and plants that are endangered or threatened with becoming endangered.

• Provide for conservation of migratory bird resources at the Refuge.

We will prepare an EIS in accordance with NEPA and its implementing regulations. Public input during the EIS planning process is hereby solicited.

Preliminary Issues, Concerns, and Opportunities

We have identified the following preliminary issues, concerns, and opportunities we may consider during development of the EIS. We may identify additional issues during the public comment period. We will consider public comments during development of the EIS.

• What alternatives should be considered with regard to eradication of rats from Palmyra Refuge?

• How can we balance cost, efficacy, risks to nontarget species, and other variables?

• What current or planned island uses including natural resource management activities, public visitation, and scientific research at the atoll should we consider in the Draft EIS?

• What other island resources, including historic and cultural artifacts, specific biological resources, and physical attributes such as water quality and soils, should we consider in the Draft EIS?

• To document the effects and effectiveness of our Refuge management actions, what monitoring should the proposal include?

We will evaluate a range of alternatives in the EIS, and their potential effects on the environment and local communities. We estimate that the draft EIS will be available for public review in October 2010. We will announce opportunities for public input throughout the EIS planning process.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: December 1, 2009.
David J. Wesley,
Acting Regional Director, Region 1, Portland, Oregon.

[FR Doc. 2010-579 Filed 1-13-10; 8:45 am]

BILLING CODE 4310-55-P